DEPARTMENT OF THE TREASURY

Office of Foreign Assets Control

Correction to Notice of OFAC Sanctions Actions

AGENCY: Office of Foreign Assets Control, Treasury.

ACTION: Notice; Correction.

SUMMARY: The Department of the Treasury's Office of Foreign Assets Control (OFAC) published a document in the Federal Register of Tuesday, April 20, 2021, concerning the publishing of names on OFAC's Specially Designated Nationals and Blocked Persons List. The document contained incorrect bases for designation that are being corrected here.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Correction

In the Federal Register of Tuesday, April 20, 2021, 86 FR 20595, on page 20596, under STEPANOV, Artem Nikolaevich, delete “Linked To: PRIGOZHIN, Yevgeniy, Viktorovich” and replace with “Linked To: OOO YUNIDZHET” and correct the basis for designation to:

“Designated pursuant to section 2(a)(iii) of Executive Order (E.O.) 13848 for having acted or purported to act for or on behalf of, directly or indirectly, OOO YUNIDZHET, a person whose property and interests in property are blocked pursuant to E.O. 13848.

Also designated pursuant to section 1(a)(ii)(C)(2) of E.O. 13661 for having acted or purported to act for or on behalf of, directly or indirectly, OOO YUNIDZHET, a person whose property and interests in property are blocked pursuant to E.O. 13661.

Also designated pursuant to section 1(a)(ii)(C) of E.O. 13694, as amended by E.O. 13757, for having acted or purported to act for or on behalf of, directly or indirectly, OOO YUNIDZHET, a person whose property and interests in property are blocked pursuant to E.O. 13694, as amended by E.O. 13757.”

It was incorrectly listed previously as, “Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) E.O. 13694, as amended for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of E.O. 13661, as amended for having materially assisted, sponsored, or provided financial, material, or technological support for, or goods or services to or in support of, YEVGENIY VIKTOROVICH PRIGOZHIN, a person whose property and interests in property are blocked pursuant to E.O. 13661.”

Dated: November 9, 2023.
Bradley T. Smith,
Director, Office of Foreign Assets Control, U.S. Department of the Treasury.

[FR Doc. 2023-25299 Filed 11-15-23; 8:45 am]

BILLING CODE 4810-AL-P